DEPARTMENT OF TRANSPORTATION

Federal Aviation Administration

14 CFR Part 107

[Docket No. FAA-2024-2403]

Accepted Means of Compliance for Small Unmanned Aircraft Category 2 and Category 3 Operations Over Human Beings; Virginia Tech Mid-Atlantic Aviation Partnership (VT MAAP)

AGENCY: Federal Aviation Administration (FAA), Department of Transportation (DOT).

ACTION: Notification of availability.

SUMMARY: This document announces the acceptance of a means of compliance with FAA regulations for small unmanned aircraft (sUA) Category 2 and Category 3 operations over human beings. The Administrator finds that VT MAAP's “Operation of Small Unmanned Aircraft Systems Over People,” version 2.1, dated August 9, 2024, provides an acceptable means, but not the only means, of showing compliance with FAA regulations.

DATES: Effective December 30, 2024.

FOR FURTHER INFORMATION CONTACT:

FAA Contact: Kimberly Luu, Cabin Safety Section, AIR-624, Technical Policy Branch, Policy and Standards Division, Aircraft Certification Service, Federal Aviation Administration, 2200 South 216th Street, Des Moines, Washington 98198; telephone and fax 206-231-3414; email Kimberly.H.Luu@faa.gov.

VT MAAP Contact: Robert Briggs, UAS Chief Engineer, 1991 Kraft Drive, Suite 2018, Blacksburg, VA 24061, (540) 231-9373; rcbriggs@vt.edu.

SUPPLEMENTARY INFORMATION:

Background

Title 14, Code of Federal Regulations, part 107, subpart D, prescribes the eligibility and operating requirements for civil sUA to operate over human beings in the United States. To be eligible for use, the sUA must meet the requirements of § 107.120(a) for Category 2 operations or § 107.130(a) for Category 3 operations. These sections require the sUA to be designed, produced, or modified such that it will not cause injury to a human being above a specified severity limit, does not contain any exposed rotating parts that would lacerate human skin, and does not contain any safety defects. Section 107.155 requires that means of compliance with § 107.120(a) or § 107.130(a) be established and FAA-accepted. Section 107.160 requires an applicant to declare that sUA for Category 2 or Category 3 operations meet an FAA-accepted means of compliance.

Means of Compliance Accepted

This notice of availability serves as a formal acceptance by the FAA of VT MAAP's “Operation of Small Unmanned Aircraft Systems Over People,” version 2.1, as an acceptable means of compliance, but not the only means of compliance with §§ 107.120(a) and 107.130(a). Applicants may also propose alternative means of compliance for FAA review and possible acceptance.

Revisions

Revisions to VT MAAP's “Operation of Small Unmanned Aircraft Systems Over People,” version 2.1, will not be automatically accepted and will require further FAA acceptance for any revisions to be considered an accepted means of compliance.

Issued in Kansas City, Missouri, on December 20, 2024.
Patrick R. Mullen,
Manager, Technical Policy Branch, Policy and Standards Division, Aircraft Certification Service.

[FR Doc. 2024-31234 Filed 12-27-24; 8:45 am]

BILLING CODE 4910-13-P